DEPARTMENT OF DEFENSE

Department of the Army, Corps of Engineers

Intent To Prepare a Second Supplemental Environmental Impact Statement to the Final EIS on Herbert Hoover Dike Major Rehabilitation and Evaluation Report, Reaches 2 and 3 (Belle Glade to Moore Haven), in Palm Beach, Hendry, and Glades Counties, FL

AGENCY: Department of the Army, U.S. Army Corps of Engineers, DOD.

ACTION: Notice of intent.

SUMMARY: Herbert Hoover Dike is the levee and water control system that provides flood protection to communities surrounding Lake Okeechobee. The purpose of this project is to evaluate rehabilitation solutions for Reaches 2 and 3 of the dike so that the authorized level of flood protection can be provided to reduce the risk of a catastrophic failure or breach of the embankment. Reaches 2 and 3 of the HHD extend for approximately 27 miles between an area west of Belle Glade, Palm Beach County to east of Moore Haven, Glades County, FL. On July 8 2005, the Jacksonville District, U.S. Army Corps of Engineers (Corps) issued a Final Supplemental Environmental Impact Statement (FSEIS) for the Major Rehabilitation actions proposed for Herbert Hoover Dike (HHD), Reach 1. On September 23, 2005, a Record of Decision was signed adopting the preferred alternative as the Selected Plan for Reach 1.

The preferred plan described in the draft SEIS for the MRR Reaches 2 and 3 was based on the Reach 1 preferred plan. However, as designs were optimized during development of the plans and specifications for Reach 1, it became apparent that a cutoff wall in combination with a seepage berm would not work for all of Herbert Hoover Dike. The alternative for Reaches 2 and 3 will be a combination of a cutoff wall with a seepage berm and a relief feature such as a Relief Trench, Soil Replacement Wedge, Relief Wells, Drainage Feature, or Sand Columns. The specific features selected and dimension of the features will be site specific, dependent on the local geology and site conditions along Reaches 2 and 3. This study is a cooperative effort between the Corps and the South Florida Water Management District (SFWMD).

ADDRESSES: U.S. Army Corps of Engineers, Planning Division, Environmental Branch, P.O. Box 4970, Jacksonville, FL 32232-0019.

FOR FURTHER INFORMATION CONTACT: Ms. Angela Dunn at (904) 232-2108 or e-mail at Angela.E.Dunn@usace.army.mil.

SUPPLEMENTARY INFORMATION: a. The proposed action will be the selected plan described in the July 2005 Supplemental Environmental Impact Statement (SEIS) with the additional actions of: Extending construction along Reaches 2 and 3 of the levee and implementing the landside rehabilitation features as needed based on geology and adjacent land factors. The proposed action will not affect the Regulation Schedule for Lake Okeechobee. Land may have to be acquired outside of the existing right-of-way (ROW) and this SEIS will account for any impacts that result due to acquisition of additional real estate.

b. The preferred plan design will be optimized according to the local geology and site conditions along Reaches 2 and 3. The features that may be part of the preferred plan include: Cutoff Wall, Seepage Berm, Relief Trench, Soil Replacement Wedge, Relief Wells, Sand Column and Drainage Feature.

c. A scoping letter will be used to invite comments on alternatives and issues from Federal, State, and local agencies, affected Indian tribes, and other interested private organizations and individuals. A Scoping Letter describing the proposed project and soliciting comments was sent to government agencies, non-governmental agencies, Indian Tribes and the interested public on August 10, 2006. A scoping meeting is not anticipated.

d. A public meeting will be held after release of the Draft SEIS; the exact location, date, and times will be announced in a public notice and local newspapers.

e. A Major Rehabilitation Evaluation Report (MRR) was approved by Congress in the Water Resources Development Act (WRDA) 2000 that addressed the need to repair the aging dike.

f. Draft SEIS Preparation: The 2nd DSEIS is expected to be available for public review in the first quarter of CY 2010.

Dated: August 19, 2009.
Kenneth R. Dugger,
Acting Chief, Environmental Branch.

[FR Doc. E9-20912 Filed 8-28-09; 8:45 am]

BILLING CODE 3720-58-P